DEPARTMENT OF ENERGY

Notice of Availability of Financial Assistance Solicitation

AGENCY: National Energy Technology Laboratory (NETL), U.S. Department of Energy (DOE.

ACTION: Notice of availability of financial assistance solicitation.

SUMMARY: Notice is hereby given of the intent to issue Financial Assistance Solicitation DE-PS26-00NT40777 entitled “High Pressure Combustion Kinetics”. The Department of Energy announces that it intends to conduct a competitive Program Solicitation and award financial assistance (cooperative agreements) to U.S. universities, private energy equipment researchers, developers or manufacturers. Teaming among organizations with expertise in energy systems development, computational modeling, and experimental research is highly encouraged. The program seeks to obtain reaction kinetic data of high pressure (12-33 atmospheres) and high temperature (1600-3000 °F) combustion systems, which operate in reaction environments ranging from sub-stoichiometric to oxygen enhanced, to serve as a basis for development of advanced combustion power systems. Applications will be subjected to review by a DOE technical panel, and awards will be made to a limited number of applicants based on a scientific engineering evaluation of the responses received to determine the relative merit of the approach taken in response to this offering by the DOE, and funding availability.

DATES: The solicitation will be available on the DOE/NETL's Internet address at http://www.netl.doe.gov/business on or about February 15, 2000. The closing date for submission of applications will be April 3, 2000.

FOR FURTHER INFORMATION CONTACT: Donna J. Jaskolka, MS 921-107,U.S. Department of Energy,National Energy Technology Laboratory,Acquisition and Assistance Division,P.O. Box 10940,Pittsburgh PA 15236-0940,Telephone: (412) 386-6106,FAX: (412) 386-6137,E-mail: jaskolka@netl.doe.gov.

SUPPLEMENTARY INFORMATION: Title of Solicitation: DE-PS26-00NT40777, “High Pressure Combustion Kinetics”.

Objectives: The overall objective of Financial Assistance Solicitation No. DE-PS26-00NT40777 is to obtain quantitative kinetic expressions required for flow simulation, design and operation of high pressure (12-33 atm), high temperature (1600-3000 °F) combustion systems, which operate in reaction environments ranging from sub-stoichiometic to oxygen enhanced, to serve as a basis for development of advanced combustion power systems.

Eligibility: Eligibility for participation in this Program Solicitation is unrestricted. The solicitation will contain a complete description of the technical evaluation factors and relative importance of each factor.

Areas of Interest: Each proposal (application) submitted in response to DE-PS26-00NT40777 must focus on one of the following distinct areas of interest: (1) Suspension fired combustion systems including pulverized coal and cyclone fired combustion systems, or (2) Fluidized bed combustion systems including bubbling, circulating, and transport fluidization combustion systems. If an offeror is interested in conducting research in more than one area, the offeror must submit a separate proposal for each item.

The proposers (applicants) who do the best job of focusing and integrating the combustion kinetics experimental program to extend and/or develop computational combustion systems models that can be used for evaluation and design of Vision 21 combustion systems will have the highest potential for acceptance. The proposals that include schematics and narrative descriptions of coal fueled energy plants (power and/or transportation fuels and/or chemical) that include combustion systems that have a high potential to meet the Vision 21 goals referenced above based on extension of the state of the art or based on new novel systems approaches are sought. The experimental work proposed must be a product for the extension or development of a specific (proposer defined) design model to characterize combustion systems defined in the areas of interest described below.

Awards: DOE anticipates issuing financial assistance (cooperative agreements) for each project selected. DOE reserves the right to support or not support, with or without discussion, any or all applications received in whole or in part, and to determine how many awards may be made through the solicitation subject to funds available in this fiscal year. Approximately $3,000,000 is planned for this solicitation over a three-year period. The total estimated DOE funding is $1,000,000-$1,500,000 per award. Cost sharing by the applicant is to be not less than 20% of the total proposed amount, and may consist of in-kind contributions.

E-Mail Notification Process: Prospective applicants who would like to be notified as soon as the solicitation is available should register at http://www.netl.doe.gov/business. Provide your E-mail address and click on the “Coal Conversion/Solid Fuels Feedstocks” technology choice located under the heading “Fossil Energy.” Once you subscribe, you will receive an announcement by E-mail that the solicitation has been released to the public. Telephone requests, written requests, E-mail requests, or facsimile requests for a copy of the solicitation will not be accepted and/or honored. Applications must be prepared and submitted in accordance with instructions contained in the solicitation. The actual solicitation document will allow for requests for explanation and/or interpretation.

Issued in Pittsburgh, PA on January 25, 2000.
Dale A. Siciliano,
Deputy Director Acquisition and Assistance Division.

[FR Doc. 00-2708 Filed 2-4-00; 8:45 am]

BILLING CODE 6450-01-P